DEPARTMENT OF HEALTH AND HUMAN SERVICES

Centers for Disease Control and Prevention

[Program Announcement 03057]

Cooperative Agreement for a National Poison Prevention and Control Program; Notice of Availability of Funds; Amendment

A notice announcing the availability of fiscal year (FY) 2003 funds for a cooperative agreement program for a national poison prevention and control program was published in the Federal Register on May 7, 2003, Volume 68, Number 88, on pages 24483-24485. The notice is amended as follows: On page 24483, in the second column, section E. Program Requirements, item 1(a) should read: Develop a plan to improve the current national toxicosurveillance system, with a focus on improvement of data collection and coding. Enhance real time data collection and aberration detection capabilities of TESS.

Dated: May 23, 2003.
Sandra R. Manning,
Director, Procurement and Grants Office, Centers for Disease Control and Prevention.

[FR Doc. 03-13656 Filed 5-30-03; 8:45 am]

BILLING CODE 4163-18-P